DEPARTMENT OF TRANSPORTATION

Federal Aviation Administration

14 CFR Part 39

[Docket No. FAA-2020-0214; Product Identifier 2018-SW-039-AD]

RIN 2120-AA64

Airworthiness Directives; Airbus Helicopters

AGENCY: Federal Aviation Administration (FAA), DOT.

ACTION: Notice of proposed rulemaking (NPRM).

SUMMARY: The FAA proposes to adopt a new airworthiness directive (AD) for all Airbus Helicopters Model EC225LP helicopters. This proposed AD was prompted by a mechanical deformation found on the protective cover of the “SHEAR” control pushbutton installed on a copilot collective stick. This proposed AD would require modification of the helicopter by replacing the protective cover and re-identifying the part number (P/N) of the pilot and copilot collective sticks. The FAA is proposing this AD to address the unsafe condition on these products.

DATES: The FAA must receive comments on this proposed AD by May 26, 2020.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Airbus Helicopters, 2701 N. Forum Drive, Grand Prairie, TX 75052; telephone (972) 641-0000 or (800) 232-0323; fax (972) 641-3775; or at https://www.airbus.com/helicopters/services/technical-support.html. You may view this service information at the FAA, Office of the Regional Counsel, Southwest Region, 10101 Hillwood Pkwy, Room 6N-321, Fort Worth, TX 76177.

Examining the AD Docket

You may examine the AD docket on the internet at https://www.regulations.gov by searching for and locating Docket No. FAA-2020-0214; or in person at Docket Operations between 9 a.m. and 5 p.m., Monday through Friday, except Federal holidays. The AD docket contains this NPRM, the Mandatory Continuing Airworthiness Information (MCAI), any comments received, and other information. The street address for Docket Operations is listed above. Comments will be available in the AD docket shortly after receipt.

FOR FURTHER INFORMATION CONTACT: Clark Davenport, Flight Test Analyst, Flight Test Branch, FAA, 10101 Hillwood Pkwy., Fort Worth, TX 76177; telephone (817) 222-5151; email clark.davenport@faa.gov.

SUPPLEMENTARY INFORMATION:

Comments Invited

The FAA invites you to send any written relevant data, views, or arguments about this proposal. Send your comments to an address listed under the ADDRESSES section. Include “Docket No. FAA-2020-0214; Product Identifier 2018-SW-039-AD” at the beginning of your comments. The FAA specifically invites comments on the overall regulatory, economic, environmental, and energy aspects of this NPRM. The FAA will consider all comments received by the closing date and may amend this NPRM because of those comments.

The FAA will post all comments received, without change, to https://www.regulations.gov, including any personal information you provide. The FAA will also post a report summarizing each substantive verbal contact received about this NPRM.

Discussion

The European Union Aviation Safety Agency (previously European Aviation Safety Agency) (EASA), which is the Technical Agent for the Member States of the European Union, has issued EASA AD No. 2018-0106, dated May 10, 2018 (referred to after this as “the MCAI”), to correct an unsafe condition for all Airbus Helicopters Model EC225LP helicopters. EASA advises that mechanical deformation was found on the protective cover of the “SHEAR” control pushbutton on a copilot collective stick. The root cause for the deformation was identified as incorrect handling. This condition, if not corrected, could lead to unintended shearing of the hoist cable, possibly resulting in loss of a hoisted load or person(s). To address this unsafe condition, the EASA AD requires replacement of the protective cover of the “SHEAR” control pushbutton and re-identification (new AH P/N 704A41110149, new NSE MP/N 00014100AA) of the pilot and copilot collective sticks. The EASA AD also prohibits installation of the old design protective cover.

You may examine the MCAI in the AD docket on the internet at https://www.regulations.gov by searching for and locating Docket No. FAA-2020-0214.

Related Service Information Under 1 CFR Part 51

Airbus Helicopters has issued Alert Service Bulletin EC225-67A017, Revision 0, dated March 26, 2018. This service information describes procedures for modification of the helicopter by replacing the protective cover of the “SHEAR” control pushbutton and re-identifying the part number of the pilot and copilot collective sticks.

This service information is reasonably available because the interested parties have access to it through their normal course of business or by the means identified in the ADDRESSES section.

FAA's Determination

This product has been approved by the aviation authority of another country, and is approved for operation in the United States. Pursuant to the FAA's bilateral agreement with the State of Design Authority, the FAA has been notified of the unsafe condition described in the MCAI and service information referenced above. The FAA is proposing this AD after evaluating all the relevant information and determining the unsafe condition described previously is likely to exist or develop on other products of the same type design.

Proposed Requirements of This NPRM

This proposed AD would require accomplishing the actions specified in the service information described previously.

Costs of Compliance

The FAA estimates that this proposed AD affects 12 helicopters of U.S. registry. The FAA estimates the following costs to comply with this proposed AD:

Estimated Costs for Required Actions
Labor cost | Parts cost | Cost per product | Cost on U.S. operators
2 work-hours × $85 per hour = $170 | $2,632 | $2,802 | $33,624

According to the manufacturer, some or all of the costs of this proposed AD may be covered under warranty, thereby reducing the cost impact on affected individuals. The FAA does not control warranty coverage for affected individuals. As a result, the FAA has included all known costs in the cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus Helicopters: Docket No. FAA-2020-0214; Product Identifier 2018-SW-039-AD.

(a) Comments Due Date

The FAA must receive comments by May 26, 2020.

(b) Affected ADs

None.

(c) Applicability

This AD applies to all Airbus Helicopters Model EC225LP helicopters, certificated in any category.

(d) Subject

Joint Aircraft System/Component Codes (JASC) Code 67, Rotorcraft Flight Controls.

(e) Reason

This AD was prompted by mechanical deformation found on the protective cover of the “SHEAR” control pushbutton installed on a copilot collective stick. The FAA is issuing this AD to address this condition, which could lead to unintended shearing of the hoist cable, possibly resulting in loss of a hoisted load or person(s).

(f) Compliance

Comply with this AD within the compliance times specified, unless already done.

(g) Definitions

For the purposes of this AD, the definitions specified in paragraphs (g)(1) through (3) of this AD apply.

(1) Affected part: A pilot or copilot collective stick having part number (P/N) 704A41110139, equipment manufacturer NSE P/N N2000355.

(2) Group 1 helicopters: Helicopters that have an affected part installed.

(3) Group 2 helicopters: Helicopters that do not have an affected part installed. A helicopter that has embodied Airbus Helicopters Modification 332P084165 in production is a Group 2 helicopter, provided that helicopter remains in that configuration.

(h) Required Actions

For Group 1 helicopters: At the applicable time specified in Table 1 to paragraph (h) of this AD, modify the helicopter by replacing the protective cover of the “SHEAR” control pushbutton and re-identifying the part number of the pilot and copilot collective sticks, in accordance with the Accomplishment Instructions of Airbus Helicopters Alert Service Bulletin EC225-67A017, Revision 0, dated March 26, 2018.

(i) Parts Installation Prohibition

At the applicable times specified in paragraphs (i)(1) and (2) of this AD: Do not install on any helicopter a “SHEAR” control pushbutton protective cover having P/N 700070 on the pilot or copilot collective stick, and do not install on any helicopter a pilot or copilot collective stick having P/N 704A41110139 (equipment manufacturer NSE P/N N2000355).

(1) For Group 1 helicopters: After modification of the helicopter as required by paragraph (h) of this AD.

(2) For Group 2 helicopters: From the effective date of this AD.

(j) Alternative Methods of Compliance (AMOCs)

(1) The Manager, Safety Management Section, Rotorcraft Standards Branch, FAA, may approve AMOCs for this AD. Send your proposal to: Clark Davenport, Flight Test Analyst, Flight Test Branch, FAA, 10101 Hillwood Pkwy., Fort Worth, TX 76177; telephone (817) 222-5151; email 9-ASW-FTW-AMOC-Requests@faa.gov.

(2) For operations conducted under a 14 CFR part 119 operating certificate or under 14 CFR part 91, subpart K, notify your principal inspector or lacking a principal inspector, the manager of the local flight standards district office or certificate holding district office, before operating any aircraft complying with this AD through an AMOC.

(k) Related Information

(1) The subject of this AD is addressed in European Union Aviation Safety Agency (previously European Aviation Safety Agency) (EASA) AD No. 2018-0106, dated May 10, 2018. This EASA AD may be found in the AD docket on the internet at https://www.regulations.gov by searching for and locating Docket No. FAA-2020-0214.

(2) For service information identified in this AD, contact Airbus Helicopters, 2701 N. Forum Drive, Grand Prairie, TX 75052; telephone (972) 641-0000 or (800) 232-0323; fax (972) 641-3775; or at https://www.airbus.com/helicopters/services/technical-support.html. You may view this service information at the FAA, Office of the Regional Counsel, Southwest Region, 10101 Hillwood Pkwy, Room 6N-321, Fort Worth, TX 76177.

Issued on April 3, 2020.
Gaetano A. Sciortino,
Deputy Director for Strategic Initiatives, Compliance & Airworthiness Division, Aircraft Certification Service.

[FR Doc. 2020-07354 Filed 4-7-20; 8:45 am]

BILLING CODE 4910-13-P